DEPARTMENT OF TRANSPORTATION

Federal Motor Carrier Safety Administration

[Docket No. FMCSA-2016-0161]

Agency Information Collection Activities; Extension of a Currently-Approved Information Collection: Unified Registration System, FMCSA Registration/Updates

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval and invites public comment. The FMCSA requests approval to extend an ICR titled, “Unified Registration System, FMCSA Registration/Updates.” This ICR is due to the Agency's development of a Final Rule titled, “Unified Registration System” (78 FR 52608 dated August 23, 2013) requiring those entities that are subject to the FMCSA's licensing, registration and certification regulations to use a new electronic on-line application Form MCSA-1 titled, “FMCSA Registration/Update(s)” to make data more readily accessible for all regulated entities. On October 21, 2015, FMCSA published a final rule delaying the final effective date of the URS final rule until September 30, 2016, with full compliance not due until December 31, 2016.

DATES: We must receive your comments on or before August 9, 2016.

ADDRESSES: You may submit comments identified by Federal Docket Management System (FDMS) Docket Number FMCSA-2016-0161 using any of the following methods:

• Federal eRulemaking Portal: http://www.regulations.gov. Follow the online instructions for submitting comments.

• Fax: 1-202-493-2251.

• Mail: Docket Management Facility; U.S. Department of Transportation, 1200 New Jersey Avenue SE., West Building, Ground Floor, Room W12-140, 20590-0001.

• Hand Delivery or Courier: West Building, Ground Floor, Room W12-140, 1200 New Jersey Avenue SE., Washington, DC, between 9 a.m. and 5 p.m. E.T., Monday through Friday, except Federal holidays.

Instructions: All submissions must include the Agency name and docket number. For detailed instructions on submitting comments and additional information on the exemption process, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: Anyone is able to search the electronic form of all comments received into any of our dockets by the name of the individual submitting the comment (or signing the comment, if submitted on behalf of an association, business, labor union, etc.). You may review DOT's complete Privacy Act Statement for the Federal Docket Management System published in the Federal Register on January 17, 2008 (73 FR 3316), or you may visit http://edocket.access.gpo.gov/2008/pdfE8-794.pdf.

Public Participation: The Federal eRulemaking Portal is available 24 hours each day, 365 days each year. You can obtain electronic submission and retrieval help and guidelines under the “help” section of the Federal eRulemaking Portal Web site. If you want us to notify you that we received your comments, please include a self-addressed, stamped envelope or postcard, or print the acknowledgement page that appears after submitting comments online. Comments received after the comment closing date will be included in the docket and will be considered to the extent practicable.

FOR FURTHER INFORMATION CONTACT: Mr. Jeffrey Secrist, Office of Registration and Safety Information, Department of Transportation, Federal Motor Carrier Safety Administration, 1200 New Jersey Avenue SE., Washington, DC 20590-0001. Telephone Number: (202) 385-2367; Email Address: jeff.secrist@dot.gov. Office hours are from 8:00 a.m. to 5:00 p.m., E.T., Monday through Friday, except Federal holidays.

SUPPLEMENTARY INFORMATION: Background: Section 103 of the ICC Termination Act of 1995 (ICCTA) enacted 49 U.S.C. 13908, which required the Secretary of Transportation (Secretary) to propose regulations to replace four current identification and registration systems with a single, online, Federal system—the Unified Registration System (URS). The Unified Carrier Registration Act of 2005, subtitle C of title IV of the Safe, Accountable, Flexible, Efficient Transportation Equity Act: A Legacy for Users (SAFETEA-LU) [Pub. L. 109-59, 119 Stat. 1714, August 10, 2005] modified the requirements for a unified registration system by amending § 13908. In particular, SAFETEA-LU repealed the Single State Registration System (SSRS), one of the four systems identified in § 13908, and replaced it with the Unified Carrier Registration Agreement. It also modified the requirement that fees collected under the new system cover the costs of operating and upgrading the registration by placing limitations on certain fees that the Agency could charge. Section 4304 of SAFETEA-LU reiterated the congressional requirement for a single, Federal online system to replace the four individual systems identified under 49 U.S.C. 13908. This consolidation simplifies current Federal registration processes and makes data on interstate motor carriers, property brokers, freight forwarders, and other regulated entities more accessible. The URS applies to virtually every motor carrier, property broker, freight forwarder, cargo tank facility, and intermodal equipment provider that is required to register with the United States Department of Transportation (USDOT).

This information collection supports the DOT Strategic Goal of Safety. It will streamline the existing registration process and ensure that FMCSA can more efficiently track motor carriers, freight forwarders, brokers, and other entities regulated by the Agency.

The information on the on-line Form MCSA-1 will be used by FMCSA to identify its regulated entities, to help prioritize the Agency's activities, to aid in assessing the safety outcomes of those activities and for statistical purposes. The FMCSA will collect the information electronically through on-line forms. The information is currently being collected through a series of forms, which may be filed on-line or on paper. Every interstate motor carrier operating commercial motor vehicles is required to register with FMCSA to obtain a USDOT Number. Most for-hire carriers are also required to file a separate application for operating authority under 49 U.S.C. 13901. Mexico- and Non-North America-domiciled motor carriers file a separate registration form. The information collection will replace these three collections and create a single on-line form. This rule will streamline the collection and eliminate the need for motor carriers to file the same information on multiple forms.

Title: Unified Registration System, FMCSA Registration/Updates.

OMB Control Number: 2126-0051.

Type of Request: Extension of a currently approved information collection.

Respondents: Motor carriers (including private and exempt for-hire carriers effective September 30, 2016), freight forwarders, brokers, cargo tank (CT) facilities, and intermodal equipment providers (IEPs) that are required to initially register for and then maintain their safety and operating authority registrations with USDOT.

Estimated Number of Respondents: 78,400 respondents for initial registration filings; 507,500 respondents for completing the biennial update; 13,000 respondents for filing name/address change requests; 1,100 respondents for transfer of operating authority registration notifications; and 2,030 respondents for reinstatements of operating authority registration.

Estimated Time per Response: 1.34 hours for initial registration filings; and 10 minutes each for the biennial update, name/address change request, notification of transfer of operating authority registration, and reinstatement of revoked or inactive registration.

Expiration Date: November 30, 2016.

Frequency of Response: This information collection covers the initial application to register with FMCSA as a motor carrier, freight forwarder, broker, intermodal equipment provider, and cargo tank facility; as well as subsequent applications to complete a biennial update or any other update of the information recorded on the registration system, submit a name/address change request, seek a reinstatement of revoked or inactive registration, and notify the Agency of a transfer of operating authority registration.

Estimated Total Annual Burden: 105,000 burden hours for the initial applications of registration; 84,600 burden hours for completing biennial updates; 2,200 burden hours for filing name/address change requests; 180 burden hours for operating authority registration transfer notifications; and 340 burden hours for reinstatements of revoked or inactive registration; for a total estimated annual burden of 192,320 hours.

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The agency will summarize or include your comments in the request for OMB's clearance of this information collection.

Issued on: June 3, 2016.
G. Kelly Regal,
Associate Administrator, Office of Research and Information Technology.

[FR Doc. 2016-13752 Filed 6-9-16; 8:45 am]

BILLING CODE 4910-EX-P